DEPARTMENT OF AGRICULTURE

Forest Service

National Urban and Community Forestry Advisory Council

AGENCY: Forest Service, USDA.

ACTION: Notice; Correction.

SUMMARY: The Forest Service published a notice in the Federal Register on December 28, 2011, stating the intent to hold a Federal Advisory Committee, (FACA) meeting of the National Urban and Community Forestry Advisory Council. The official FACA meeting scheduled in Washington, DC, on January 25-26, 2012, at the Department of Agriculture (USDA) Whitten Building has been cancelled. However, members will attend a Forest Service meeting for the purpose of training and informational exchange during the same time period.

DATES: January 25 from 9 a.m. to 4 p.m. and January 26, from 8:30 a.m. to 12 noon, 2012.

ADDRESSES: USDA Whitten Building, 12th and Jefferson Drive SW., Washington, DC 20250; Phone: (202) 205-7829.

FOR FURTHER INFORMATION CONTACT: Nancy Stremple, 201 14th Street SW., Yates Building (1 Central) MS-1151, Washington, DC 20250-1151, phone (202) 205-7829.

Individuals who use telecommunication devices for the deaf (TDD) may call the Federal Information Relay Service (FIRS) at 1-(800) 877-8339 between 8 a.m. and 8 p.m., Eastern Standard Time, Monday through Friday.

Correction

In the Federal Register of December 28, 2011, in FR doc. 2011-33216 on page 81472 in the first column, correct the “Purpose of meeting” has changed to read: The official FACA meeting of the National Urban and Community Forestry Advisory Council scheduled in Washington, DC, on January 25-26, 2012, at the Department of Agriculture (USDA) Whitten Building has been cancelled. However, members will attend a Forest Service meeting for the purpose of training and informational exchange during the same time period.

Dated: January 19, 2012.
Robin L. Thompson,
Associate Deputy Chief, State and Private Forestry.

[FR Doc. 2012-1731 Filed 1-26-12; 8:45 am]

BILLING CODE 3410-11-P